DEPARTMENT OF DEFENSE

Office of the Secretary

[Docket ID: DoD-2021-OS-0010]

Proposed Collection; Comment Request

AGENCY: Under Secretary of Defense for Research and Engineering, Department of Defense (DoD).

ACTION: Information collection notice.

SUMMARY: In compliance with the Paperwork Reduction Act of 1995, the Under Secretary of Defense for Research and Engineering announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by May 17, 2021.

ADDRESSES: You may submit comments, identified by docket number and title, by any of the following methods:

Federal eRulemaking Portal: http://www.regulations.gov. Follow the instructions for submitting comments.

Mail: The DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Defense Standardization Program Office, 8725 John J Kingman Rd, Stop 5100, Fort Belvoir, VA 22060-6220, ATTN: Mr. Timothy Koczanski, or call 571-767-6870.

SUPPLEMENTARY INFORMATION: Title; Associated Form; and OMB Number: Certification of Qualified Products; DD Form 1718; OMB Control Number 0704-0487.

Needs and Uses: The information collection requirement is necessary to obtain, certify, and record qualification of products or processes falling under the DoD Qualification Program. Qualification ensures continued product performance, quality, and reliability. DD Form 1718 is sent to manufacturers every two years by the Qualifying Activity when the applicable specification does not contain complete requalification testing, and requests that manufacturers complete the form, certifying that their products still meet the specification requirements as originally tested. DD Form 1718 is included as an exhibit in an appeal or hearing case file as evidence of the reviewers' products or process qualifications in advance of, and independent of, acquisition.

Affected Public: Business or other for-profit.

Annual Burden Hours: 660.

Number of Respondents: 1,320.

Responses per Respondent: 1.

Annual Responses: 1,320.

Average Burden per Response: 30 minutes.

Frequency: Biennially.

Dated: March 12, 2021.
Aaron T. Siegel,
Alternate OSD Federal Register Liaison Officer, Department of Defense.

[FR Doc. 2021-05580 Filed 3-17-21; 8:45 am]

BILLING CODE 5001-06-P